DEPARTMENT OF COMMERCE

Foreign-Trade Zones Board

[B-085-2016]

Foreign-Trade Zone (FTZ) 76—Danbury, Connecticut Notification of Proposed Production Activity; MannKind Corporation, (Fumaryl Diketopiperazone (FDKP) Carrier/Receptor Powder), Danbury, Connecticut

MannKind Corporation (MannKind) submitted a notification of proposed production activity to the FTZ Board for its facility in Danbury, Connecticut within Subzone 76B. The notification conforming to the requirements of the regulations of the FTZ Board (15 CFR 400.22) was received on December 21, 2016.

MannKind currently has authority to use the facility for the production of Technosphere Insulin®, an inhalable insulin made by a combination of imported fumaryl diketopiperazone (FDKP) and domestic material active ingredients. MannKind's current request would add a finished product to the scope of authority. Pursuant to 15 CFR 400.14(b), FTZ activity would be limited to the specific foreign-status materials and components and specific finished products described in the submitted notification (as described below) and subsequently authorized by the FTZ Board.

Production under FTZ procedures could exempt MannKind from customs duty payments on the foreign-status components used in export production. On its domestic sales, MannKind would be able to choose the duty rate during customs entry procedures that applies to FDKP carrier/receptor powder (duty rate 6.5%) for the foreign-status components and materials in the existing scope of authority. Customs duties also could possibly be deferred or reduced on foreign-status production equipment.

Public comment is invited from interested parties. Submissions shall be addressed to the Board's Executive Secretary at the address below. The closing period for their receipt is February 15, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita H. Chen at Juanita.Chen@trade.gov or (202) 482-1378.

Dated: December 28, 2016.
Elizabeth Whiteman,
Acting Executive Secretary.

[FR Doc. 2016-32034 Filed 1-5-17; 8:45 am]

BILLING CODE 3510-DS-P